DEPARTMENT OF COMMERCE

Bureau of Industry and Security

15 CFR Part 774

The Commerce Control List

CFR Correction

In Title 15 of the Code of Federal Regulations, Parts 300 to 799, revised as of January 1, 2012, in supplement no. 1 to part 774, make the following corrections:

1. In Category 0:

A. On page 663, in 0A981, add “N/A” behind “LVS:”.

B. On page 665, in 0A985, add the heading “License Requirements” above “Reason for Control”.

C. On page 665, in 0A986, correct the table under “License Requirements” to read as set forth below.

D. On page 671, in 0B986, add “, North Korea,” between “Iraq” and “Rwanda” in UN Reason for Control.

2. In Category 1:

A. On page 676, in 1A004, add “(1)” after the colon, at the beginning of “Related Definitions”.

B. On page 682, in 1B001, remove “Note: 1B001.c does not control textile machinery not modified for the above end-uses.”

C. On page 707, in 1C351, after “Related Definitions;” remove “* * *” and add paragraphs (1) and (2) as set forth below.

3. In Category 2:

A. On page 734, in 2B009, remove the text after “Related Definitions” and add “N/A” in its place.

B. On page 734, in 2B009, revise the Technical Note to read “Technical Note: For the purpose of 2B009, machines combining the function of spin-forming and flow-forming are regarded as flow-forming machines.”

C. On page 757, in 2E003, in the Notes to Table on Deposition Techniques, in note 15, add the word “are” after “Dielectric layers”.

D. On page 759, in 2E018, in the “Reasons for Control”, remove “CC, RS,”, and remove “License Requirement Notes: See § 743.1 of the EAR for reporting requirements for exports under License Exceptions.”

E. On page 759, in 2E101, add “(1)” after the colon at the beginning of “Related Controls”.

The text to be revised and added is set forth below:

Supplement No. 1 to Part 774—The Commerce Control List

* * * * *

Category 0

* * * * *

0A986 Shotgun shells, except buckshot shotgun shells, and parts.

* * * * *

Control(s) | Country chart
AT applies to entire entry. A license is required for items controlled by this entry to North Korea for anti-terrorism reasons. The Commerce Country Chart is not designed to determine AT licensing requirements for this entry. See § 742.19 of the EAR for additional information.
FC applies to entire entry | FC Column 1.
UN applies to entire entry | Iraq, North Korea, and Rwanda.

* * * * *

Category 1

* * * * *

1C351 Human and zoonotic pathogens and “toxins”, as follows (see List of Items Controlled).

* * * * *

Related Definitions: (1) For the purposes of this entry “immunotoxin” is defined as an antibody-toxin conjugate intended to destroy specific target cells (e.g., tumor cells) that bear antigens homologous to the antibody. (2) For the purposes of this entry “subunit” is defined as a portion of the “toxin”.

* * * * *

[FR Doc. 2012-17302 Filed 7-13-12; 8:45 am]

BILLING CODE 1505-01-D